Title 3—

The President

Proclamation 9828 of November 30, 2018

National Impaired Driving Prevention Month, 2018

By the President of the United States of America

A Proclamation

During National Impaired Driving Prevention Month, we recommit ourselves to the fight against impaired driving. Every day, lives are needlessly lost and irreparably altered by collisions involving drugs or alcohol. These horrible tragedies are avoidable, and each of us must make responsible decisions to prevent them and keep our communities safe.

Operating a vehicle while under the influence of alcohol, illicit drugs, or certain medications can have devastating consequences. In 2017, more than 10,000 people died in alcohol-related crashes in the United States, accounting for 29 percent of all traffic fatalities. Drunk or drugged drivers experience diminished judgment and decreased motor coordination and reaction time, putting at grave risk passengers, pedestrians, and other drivers.

My Administration is committed to raising public awareness about the dangers of impaired driving, and to supporting innovative ways of reducing related fatalities. This month in particular, we recognize the public safety professionals and law enforcement officers who work to protect our communities by removing dangerously impaired drivers from the road. We also express our great appreciation for the emergency responders across America who save lives through rescue operations on our roads on a daily basis. We continue our efforts to eliminate outdated regulations that unnecessarily hamper the ability of American companies to help reduce instances of impaired driving through innovations such as ride hailing services and Advanced Vehicle Technology. Additionally, we are providing treatment for those suffering from alcohol and substance abuse, improving data collection and toxicology practices, and ensuring that our law enforcement professionals receive vital resources to help prevent impaired driving and to respond to the tragedies it causes.

Every American can take a few simple steps to make our roads safer. We hope every driver commits to making responsible and safe decisions when driving, including driving sober, finding a designated driver, and keeping loved ones from getting behind the wheel while impaired. By educating our communities on the importance of driving sober, we can help avoid loss of life, debilitating injuries, and unbearable heartache. We must act to protect our loved ones and eliminate fatalities that prevent our fellow Americans from enjoying full and happy lives.

NOW, THEREFORE, I, DONALD J. TRUMP, President of the United States of America, by virtue of the authority vested in me by the Constitution and the laws of the United States, do hereby proclaim December 2018 as National Impaired Driving Prevention Month. I urge all Americans to make responsible decisions and take appropriate measures to prevent impaired driving.

IN WITNESS WHEREOF, I have hereunto set my hand this thirtieth day of November, in the year of our Lord two thousand eighteen, and of the Independence of the United States of America the two hundred and forty-third.

[FR Doc. 2018-26540

Filed 12-3-18; 2:00 pm]

Billing code 3295-F9-P